DEPARTMENT OF LABOR

Mine Safety and Health Administration

Petitions for Modification; D&A Resources, Inc., etc.

The following parties have filed petitions to modify the application of existing safety standards under section 101(c) of the Federal Mine Safety and Health Act of 1977.

1. D & A Resources, Inc.

[Docket No. M-2000-122-C]

D & A Resources, Inc., 915 Main Street, Rainelle, West Virginia 25962 has filed a petition to modify the application of 30 CFR 75.503 (permissible electric face equipment; maintenance) to its No. 1 Mine (I.D. No. 46-07781) located in Fayette County, West Virginia. The petitioner proposes to use a threaded ring and a spring loaded device on battery plug connectors on mobile battery-powered machines to prevent the plug connector from accidently disengaging while under load, instead of using a padlock. The petitioner asserts that application of the existing standard would result in a diminution of safety to the miners.

2. Dominion Coal Corporation

[Docket No. M-2000-123-C]

Dominion Coal Corporation, P.O. Box 70, Vansant, Virginia 24656 has filed a petition to modify the application of 30 CFR 75.204(a) (roof bolting) to its No. 16 Mine (I.D. No. 44-06643), Mine No. 22 (I.D. No. 44-06645), No. 34 Mine (I.D. No. 44-06839), and No. 36 Mine (I.D. No. 44-06759) all located in Buchanan County, Virginia. The petitioner proposes to use special purpose roof bolts that meet the requirements of ASTM F432-83 and ASTM F432-88, instead of using ASTM F432-95 roof bolts. The petitioner asserts that the proposed alternative method would not result in a diminution of safety to the miners and would provide at least the same measure of protection as the existing standard.

3. Parkwood Resources, Inc.

[Docket No. M-2000-124-C]

Parkwood Resources, Inc., 25 North Ridge Road, Shelocta, Pennsylvania 15774 has filed a petition to modify the application of 30 CFR 75.1100-2(e)(2) (quantity and location of firefighting equipment) to its Parkwood Mine (I.D. No 36-08785) located in Armstrong County, Pennsylvania. The petitioner proposes to use two (2) fire extinguishers or one fire extinguisher of twice the required capacity at all temporary electrical installations instead of using 240 pounds of rock dust. The petitioner asserts that the proposed alternative method would provide at least the same measure of protection as the existing standard.

4. Snyder Coal Company

[Docket No. M-2000-125-C]

Snyder Coal Company, 66 Snyder Lane, Hegins, Pennsylvania 17938 has filed a petition to modify the application of 30 CFR 75.1405 (automatic couplers) to its Rattling Run Slope (I.D. No. 36-08713) located in Schuylkill County, Pennsylvania. The petitioner requests a modification of the existing standard to allow bar and pin, or link and pin couplers to be used on its underground haulage equipment. The petitioner asserts that the proposed alternative method would provide at least the same measure of protection as the existing standard.

5. Three W-M Coal Company

[Docket No. M-2000-126-C]

Three W-M Coal Company, P.O. Box 602, Valley View, Pennsylvania 17983 has filed a petition to modify the application of 30 CFR 75.1400 (hoisting equipment; general) to its Orchard Slope Mine (I.D. No. 36-08806) located in Schuylkill County, Pennsylvania. The petitioner proposes to use a slope conveyance (gunboat) in transporting persons without installing safety catches or other no less effective devices but instead use increased rope strength and secondary safety rope connection in place of such devices. The petitioner asserts that the proposed alternative method would provide at least the same measure of protection as the existing standard.

6. Blue Mountain Energy, Inc.

[Docket No. M-2000-127-C]

Blue Mountain Energy, Inc., 3607 Co. Rd. 65, Rangely, Colorado 81648 has filed a petition to modify the application of 30 CFR 75.350 (air courses and belt haulage entries) to its Deserado Mine (I.D. No. 05-03505) located in Rio Blanco County, Colorado. The petitioner requests a modification of the standard to allow a carbon monoxide monitoring system to be installed in the belt entry and primary escapeway as an early warning fire detection system during two-entry longwall development. The petitioner asserts that application of the existing standard would result in a diminution of safety to the miners and that the proposed alternative method would provide at least the same measure of protection as the existing standard.

7. Girdner Mining Company, Inc.

[Docket No. M-2000-128-C]

Girdner Mining Company, Inc., P.O. Box 1328, Barbourville, Kentucky 40906 has filed a petition to modify the application of 30 CFR 75.380(f)(4) (escapeways; bituminous and lignite mines) to its Mine No. 1 (I.D. No. 15-17288) located in Knox County, Kentucky. The petitioner proposes to use one twenty- or two ten-pound portable chemical fire extinguishers on each Mescher Jeep. The fire extinguishers will be readily accessible to the equipment operator. The petitioner proposes to instruct the equipment operator to inspect each fire extinguisher daily prior to entering the mine, replace all defective fire extinguishers before entering the mine, and maintain records of all inspections of the fire extinguishers. The petitioner asserts that because of the low 24 inch heights of the coal seam, available fire suppression systems will not fit on the equipment being used at the mine. The petitioner asserts that the proposed alternative method would provide at least the same measure of protection as the existing standard.

8. Girdner Mining Company, Inc.

[Docket No. M-2000-129-C]

Girdner Mining Company, Inc., P.O. Box 1238, Barbourville, Kentucky 40906 has filed a petition to modify the application of 30 CFR 75.342 (methane monitors) to its Mine No. 1 (I.D. No. 15-17288) located in Knox County, Kentucky. The petitioner proposes to use hand-held continuous-duty methane and oxygen indicators on three-wheel tractors with drag bottom buckets instead of using machine mounted monitors. The petitioner asserts that application of the standard would reduce the safety of the miners and that the proposed alternative method would provide at least the same measure of protection as the existing standard.

9. Magic Coal Company

[Docket No. M-2000-130-C]

Magic Coal Company, P.O. Box 1352, Madisonville, Kentucky 42431 has filed a petition to modify the application of 30 CFR 75.503 (Permissible electric face equipment; maintenance) to its Magic Mine (I.D. No. 15-17071) located in Hopkins County, Kentucky. The petitioner proposes to use a spring-loaded device with specific fastening characteristics instead of a padlock to secure plugs and electrical type connectors to batteries and permissible mobile powered equipment to prevent accidental separation of the battery plugs from their receptacles during normal operation of the battery equipment. The petitioner asserts that the proposed alternative method would provide at least the same measure of protection as the existing standard.

10. Mountain Coal Company, L.L.C.

[Docket No. M-2000-131-C]

Mountain Coal Company, P.O. Box 591, Somerset, Colorado 81434 has filed a petition to modify the application of 30 CFR 75.1002 (location of trolley wires, trolley feeder wires, high-voltage cables and transformers) to its West Elk Mine (I.D. No. 05-03672) located in Gunnison County, Colorado. The petitioner proposes to use high-voltage (2,400 volt) cables within 150 feet of pillar workings for continuous miners. The petitioner has listed specific terms and conditions in this petition for using high-voltage cables. The petitioner asserts that the proposed alternative method would provide at least the same measure of protection as the existing standard.

11. Blue Mountain Energy, Inc.

[Docket No. M-2000-132-C]

Blue Mountain Energy, Inc., 3607 Co. Rd. 65, Rangely, Colorado 81648 has filed a petition to modify the application of 30 CFR 75.352 (return air courses) to its Deserado Mine (I.D. No. 05-03505) located in Rio Blanco County, Colorado. The petitioner requests a modification of the standard to allow a carbon monoxide monitoring system to be installed in the belt entry and primary escapeway as an early warning fire detection system during two-entry longwall development. The petitioner asserts that application of the existing standard would result in a diminution of safety to the miners and that the proposed alternative method would provide at least the same measure of protection as the existing standard.

12. Peabody Coal Company

[Docket No. M-2000-133-C]

Peabody Coal Company, 1951 Barrett Court, P.O. Box 1990, Henderson, Kentucky 42420 has filed a petition to modify the application of 30 CFR 75.503 (permissible electric face equipment; maintenance) to its Camp #11 Mine (I.D. No. 15-08357) located in Union County, Kentucky. The petitioners proposes to use a spring-loaded metal locking device to secure battery connecting plugs to machine-mounted batter receptacles on permissible mobile battery-powered scoop cars and tractors to prevent the cable plug from inadvertently disengaging from the receptacle, instead of using padlocks. The petitioner asserts that the proposed alternative method would provide at least the same measure of protection as the existing standard.

13. Aracoma Coal Company

[Docket No. M-2000-134-C]

Aracoma Coal Company, P.O. Box 470, Stollings, West Virginia 25646 has filed a petition to modify the application of 30 CFR 75.1002 (location of trolley wires, trolley feeder wires, high-voltage cables and transformers) to its Aracoma Alma Mine No. 1 (I.D. No. 46-08801) located in Logan County, West Virginia. The petitioner proposes to use a 4,160 volt high-voltage longwall mining system. The petitioner asserts that the proposed alternative method would provide at least the same measure of protection as the existing standard.

14. Echo Bay Minerals Company, Kettle River Operations

[Docket No. M-2000-009-M]

Echo Bay Minerals Company, Kettle River Operations, 363 Fish Hatchery Road, Republic, Washington 99166 has filed a petition to modify the application of 30 CFR 49.8 (training for mine rescue teams) to its Lamefoot Mine (I.D. No. 45-03265) and K-2 Mine (I.D. No. 45-03336) located in Ferry County, Washington. The petitioner requests a modification of the existing standard to allow the company to participate in the Central Mine Rescue (CMR) of Wallace, Idaho, which consists of four training sessions per year, once per quarter, for the team in addition to Annual Refresher and Competition training. The petitioner asserts that the proposed alternative method would provide at least the same measure of protection as the existing standard.

Request for Comments

Persons interested in these petitioners are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before November 27, 2000. Copies of these petitioners are available for inspection at that address.

Dated: October 18, 2000.
Carol J. Jones,
Director, Office of Standards, Regulations, and Variances.

[FR Doc. 00-27535 Filed 10-25-00; 8:45 am]

BILLING CODE 4510-43-U